SECURITIES AND EXCHANGE COMMISSION

[File No. 500-1]

Order of Suspension of Trading

June 3, 2013.

3CI Complete Compliance Corp.

AHPC Holdings, Inc.

American Utilicraft Corp.

Austin Farms Inc.

BancPro, Inc.

Baxley Federal Savings Bank

CBR Brewing Co., Inc.

Centerpoint Bank (Bedford, NH)

China Renyuan International, Inc.

Compass Plastics & Technologies, Inc.

Devonshire Consolidated, Inc.

Edge Business Services Corp.

Egghead.com, Inc.

Environmental Corp. of America

Environmental Fiber Technologies, Inc.

Extreme Motorsports of California, Inc.

Fidelity First Financial Corp.

Fortune Market Media, Inc.

Franklin Ophthalmic Instruments Co., Inc.

Futurebiotics, Inc.

Geneva Financial Corp.

Globalnet Systems Ltd.

Icy Splash Food & Beverage, Inc.

Imaging Center Inc. (The)

InAmerica, Inc.

IndieMV Media Group, Inc.

Integrated Bio Energy Resources, Inc.

Interactive Brand Development, Inc.

ISI Technology Corp.

Isomet Corp.

Matinee Media Corp.

MediaBay, Inc.

Metricom, Inc.

Midnight Holdings Group, Inc.

Municipal Insurance Co. of America

Myriad Entertainment & Resorts, Inc.

Oxford Capital Corp.

PanAmerican BanCorp

Pennsylvania Warehousing & Safe Deposit Co.

Pipejoin Technologies, Inc.

Pogo! Products, Ltd.

PopMail.com, Inc.

Premium Energy Corp.

Relax Investments, Ltd.

Riptide Worldwide, Inc.

Rocket City Enterprises, Inc.

Rocketinfo, Inc.

Ronco Corp.

Silver Star Energy, Inc.

Sound Health Solutions, Inc.

Sovereign Exploration Associates International, Inc.

Sports Concepts, Inc.

Sports Media, Inc.

TMT Capital Corp.

UniMark Group, Inc. (The)

Verdant Brands, Inc.

Viking Power Services, Inc.

Vinings Investment Properties Trust

Washington Life Insurance Co. of America

Wi-Tron, Inc.

Zone Mining Ltd.

It appears to the Securities and Exchange Commission that there is a lack of current and accurate information concerning the securities of 3CI Complete Compliance Corp. because questions have arisen as to its operating status, if any. 3CI Complete Compliance Corp. is quoted on OTC Link operated by OTC Markets Group, Inc. under the ticker symbol “TCCC.”

It appears to the Securities and Exchange Commission that there is a lack of current and accurate information concerning the securities of AHPC Holdings, Inc. because questions have arisen as to its operating status, if any. AHPC Holdings, Inc. is quoted on OTC Link operated by OTC Markets Group, Inc. under the ticker symbol “GLOV.”

It appears to the Securities and Exchange Commission that there is a lack of current and accurate information concerning the securities of American Utilicraft Corp. because questions have arisen as to its operating status, if any. American Utilicraft Corp. is quoted on OTC Link operated by OTC Markets Group, Inc. under the ticker symbol “AMUC.”

It appears to the Securities and Exchange Commission that there is a lack of current and accurate information concerning the securities of Austin Farms Inc. because questions have arisen as to its operating status, if any. Austin Farms Inc. is quoted on OTC Link operated by OTC Markets Group, Inc. under the ticker symbol “AUFR.”

It appears to the Securities and Exchange Commission that there is a lack of current and accurate information concerning the securities of BancPro, Inc. because questions have arisen as to its operating status, if any. BancPro, Inc. is quoted on OTC Link operated by OTC Markets Group, Inc. under the ticker symbol “BCPO.”

It appears to the Securities and Exchange Commission that there is a lack of current and accurate information concerning the securities of Baxley Federal Savings Bank because questions have arisen as to its operating status, if any. Baxley Federal Savings Bank is quoted on OTC Link operated by OTC Markets Group, Inc. under the ticker symbol “BAXF.”

It appears to the Securities and Exchange Commission that there is a lack of current and accurate information concerning the securities of CBR Brewing Co., Inc. because questions have arisen as to its operating status, if any. CBR Brewing Co., Inc. is quoted on OTC Link operated by OTC Markets Group, Inc. under the ticker symbol “CBRAF.”

It appears to the Securities and Exchange Commission that there is a lack of current and accurate information concerning the securities of Centerpoint Bank (Bedford, NH) because questions have arisen as to its operating status, if any. Centerpoint Bank (Bedford, NH) is quoted on OTC Link operated by OTC Markets Group, Inc. under the ticker symbol “CPOB.”

It appears to the Securities and Exchange Commission that there is a lack of current and accurate information concerning the securities of China Renyuan International, Inc. because questions have arisen as to its operating status, if any. China Renyuan International, Inc. is quoted on OTC Link operated by OTC Markets Group, Inc. under the ticker symbol “CRNY.”

It appears to the Securities and Exchange Commission that there is a lack of current and accurate information concerning the securities of Compass Plastics & Technologies, Inc. because questions have arisen as to its operating status, if any. Compass Plastics & Technologies, Inc. is quoted on OTC Link operated by OTC Markets Group, Inc. under the ticker symbol “CPTI.”

It appears to the Securities and Exchange Commission that there is a lack of current and accurate information concerning the securities of Devonshire Consolidated, Inc. because questions have arisen as to its operating status, if any. Devonshire Consolidated, Inc. is quoted on OTC Link operated by OTC Markets Group, Inc. under the ticker symbol “DVNO.”

It appears to the Securities and Exchange Commission that there is a lack of current and accurate information concerning the securities of Edge Business Services Corp. because questions have arisen as to its operating status, if any. Edge Business Services Corp. is quoted on OTC Link operated by OTC Markets Group, Inc. under the ticker symbol “EGBS.”

It appears to the Securities and Exchange Commission that there is a lack of current and accurate information concerning the securities of Egghead.com, Inc. because questions have arisen as to its operating status, if any. Egghead.com, Inc. is quoted on OTC Link operated by OTC Markets Group, Inc. under the ticker symbol “EGHDQ.”

It appears to the Securities and Exchange Commission that there is a lack of current and accurate information concerning the securities of Environmental Corp. of America because questions have arisen as to its operating status, if any. Environmental Corp. of America is quoted on OTC Link operated by OTC Markets Group, Inc. under the ticker symbol “ECAM.”

It appears to the Securities and Exchange Commission that there is a lack of current and accurate information concerning the securities of Environmental Fiber Technologies, Inc. because questions have arisen as to its operating status, if any. Environmental Fiber Technologies, Inc. is quoted on OTC Link operated by OTC Markets Group, Inc. under the ticker symbol “EVFB.”

It appears to the Securities and Exchange Commission that there is a lack of current and accurate information concerning the securities of Extreme Motorsports of California, Inc. because questions have arisen as to its operating status, if any. Extreme Motorsports of California, Inc. is quoted on OTC Link operated by OTC Markets Group, Inc. under the ticker symbol “EMOC.”

It appears to the Securities and Exchange Commission that there is a lack of current and accurate information concerning the securities of Fidelity First Financial Corp. because questions have arisen as to its operating status, if any. Fidelity First Financial Corp. is quoted on OTC Link operated by OTC Markets Group, Inc. under the ticker symbol “FFIRD.”

It appears to the Securities and Exchange Commission that there is a lack of current and accurate information concerning the securities of Fortune Market Media, Inc. because questions have arisen as to its operating status, if any. Fortune Market Media, Inc. is quoted on OTC Link operated by OTC Markets Group, Inc. under the ticker symbol “FTMK.”

It appears to the Securities and Exchange Commission that there is a lack of current and accurate information concerning the securities of Franklin Opthalmic Instruments Co., Inc. because questions have arisen as to its operating status, if any. Franklin Opthalmic Instruments Co., Inc. is quoted on OTC Link operated by OTC Markets Group, Inc. under the ticker symbol “FKLN.”

It appears to the Securities and Exchange Commission that there is a lack of current and accurate information concerning the securities of Futurebiotics, Inc. because questions have arisen as to its operating status, if any. Futurebiotics, Inc. is quoted on OTC Link operated by OTC Markets Group, Inc. under the ticker symbol “VITK.”

It appears to the Securities and Exchange Commission that there is a lack of current and accurate information concerning the securities of Geneva Financial Corp. because questions have arisen as to its operating status, if any. Geneva Financial Corp. is quoted on OTC Link operated by OTC Markets Group, Inc. under the ticker symbol “GNVN.”

It appears to the Securities and Exchange Commission that there is a lack of current and accurate information concerning the securities of Globalnet Systems Ltd. because questions have arisen as to its operating status, if any. Globalnet Systems Ltd. is quoted on OTC Link operated by OTC Markets Group, Inc. under the ticker symbol “ISDN.”

It appears to the Securities and Exchange Commission that there is a lack of current and accurate information concerning the securities of Icy Splash Food & Beverage, Inc. because questions have arisen as to its operating status, if any. Icy Splash Food & Beverage, Inc. is quoted on OTC Link operated by OTC Markets Group, Inc. under the ticker symbol “IFBV.”

It appears to the Securities and Exchange Commission that there is a lack of current and accurate information concerning the securities of Imaging Center Inc. (The) because questions have arisen as to its operating status, if any. Imaging Center Inc. (The) is quoted on OTC Link operated by OTC Markets Group, Inc. under the ticker symbol “TIGC.”

It appears to the Securities and Exchange Commission that there is a lack of current and accurate information concerning the securities of InAmerica, Inc. because questions have arisen as to its operating status, if any. InAmerica, Inc. is quoted on OTC Link operated by OTC Markets Group, Inc. under the ticker symbol “INAX.”

It appears to the Securities and Exchange Commission that there is a lack of current and accurate information concerning the securities of IndieMV Media Group, Inc. because questions have arisen as to its operating status, if any. IndieMV Media Group, Inc. is quoted on OTC Link operated by OTC Markets Group, Inc. under the ticker symbol “IDMV.”

It appears to the Securities and Exchange Commission that there is a lack of current and accurate information concerning the securities of Integrated Bio Energy Resources, Inc. because questions have arisen as to its operating status, if any. Integrated Bio Energy Resources, Inc. is quoted on OTC Link operated by OTC Markets Group, Inc. under the ticker symbol “IBIE.”

It appears to the Securities and Exchange Commission that there is a lack of current and accurate information concerning the securities of Interactive Brand Development, Inc. because questions have arisen as to its operating status, if any. Interactive Brand Development, Inc. is quoted on OTC Link operated by OTC Markets Group, Inc. under the ticker symbol “IBDI.”

It appears to the Securities and Exchange Commission that there is a lack of current and accurate information concerning the securities of ISI Technology Corp. because questions have arisen as to its operating status, if any. ISI Technology Corp. is quoted on OTC Link operated by OTC Markets Group, Inc. under the ticker symbol “ISYI.”

It appears to the Securities and Exchange Commission that there is a lack of current and accurate information concerning the securities of Isomet Corp. because questions have arisen as to its operating status, if any. Isomet Corp. is quoted on OTC Link operated by OTC Markets Group, Inc. under the ticker symbol “IOMT.”

It appears to the Securities and Exchange Commission that there is a lack of current and accurate information concerning the securities of Matinee Media Corp. because questions have arisen as to its operating status, if any. Matinee Media Corp. is quoted on OTC Link operated by OTC Markets Group, Inc. under the ticker symbol “MNEM.”

It appears to the Securities and Exchange Commission that there is a lack of current and accurate information concerning the securities of MediaBay, Inc. because questions have arisen as to its operating status, if any. MediaBay, Inc. is quoted on OTC Link operated by OTC Markets Group, Inc. under the ticker symbol “MBAY.”

It appears to the Securities and Exchange Commission that there is a lack of current and accurate information concerning the securities of Metricom, Inc. because questions have arisen as to its operating status, if any. Metricom, Inc. is quoted on OTC Link operated by OTC Markets Group, Inc. under the ticker symbol “MCOMQ.”

It appears to the Securities and Exchange Commission that there is a lack of current and accurate information concerning the securities of Midnight Holdings Group, Inc. because questions have arisen as to its operating status, if any. Midnight Holdings Group, Inc. is quoted on OTC Link operated by OTC Markets Group, Inc. under the ticker symbol “MHGI.”

It appears to the Securities and Exchange Commission that there is a lack of current and accurate information concerning the securities of Municpal Insurance Co. of America because questions have arisen as to its operating status, if any. Municpal Insurance Co. of America is quoted on OTC Link operated by OTC Markets Group, Inc. under the ticker symbol “MPAL.”

It appears to the Securities and Exchange Commission that there is a lack of current and accurate information concerning the securities of Myriad Entertainment & Resorts, Inc. because questions have arisen as to its operating status, if any. Myriad Entertainment & Resorts, Inc., is quoted on OTC Link operated by OTC Markets Group, Inc. under the ticker symbol “MYRA.”

It appears to the Securities and Exchange Commission that there is a lack of current and accurate information concerning the securities of Oxford Capital Corp. because questions have arisen as to its operating status, if any. Oxford Capital Corp. is quoted on OTC Link operated by OTC Markets Group, Inc. under the ticker symbol “OXFO.”

It appears to the Securities and Exchange Commission that there is a lack of current and accurate information concerning the securities of PanAmerican BanCorp because questions have arisen as to its operating status, if any. PanAmerican BanCorp is quoted on OTC Link operated by OTC Markets Group, Inc. under the ticker symbol “PABN.”

It appears to the Securities and Exchange Commission that there is a lack of current and accurate information concerning the securities of Pennsylvania Warehousing & Safe Deposit Co. because questions have arisen as to its operating status, if any. Pennsylvania Warehousing & Safe Deposit Co. is quoted on OTC Link operated by OTC Markets Group, Inc. under the ticker symbol “PAWH.”

It appears to the Securities and Exchange Commission that there is a lack of current and accurate information concerning the securities of Pipejoin Technologies, Inc. because questions have arisen as to its operating status, if any. Pipejoin Technologies, Inc. is quoted on OTC Link operated by OTC Markets Group, Inc. under the ticker symbol “PPJN.”

It appears to the Securities and Exchange Commission that there is a lack of current and accurate information concerning the securities of Pogo! Products, Ltd. because questions have arisen as to its operating status, if any. Pogo! Products, Ltd. is quoted on OTC Link operated by OTC Markets Group, Inc. under the ticker symbol “PGOI.”

It appears to the Securities and Exchange Commission that there is a lack of current and accurate information concerning the securities of Popmail.com, Inc. because questions have arisen as to its operating status, if any. Popmail.com, Inc. is quoted on OTC Link operated by OTC Markets Group, Inc. under the ticker symbol “POPM.”

It appears to the Securities and Exchange Commission that there is a lack of current and accurate information concerning the securities of Premium Energy Corp. because questions have arisen as to its operating status, if any. Premium Energy Corp. is quoted on OTC Link operated by OTC Markets Group, Inc. under the ticker symbol “PPTL.”

It appears to the Securities and Exchange Commission that there is a lack of current and accurate information concerning the securities of Relax Investments, Ltd. because questions have arisen as to its operating status, if any. Relax Investments, Ltd. is quoted on OTC Link operated by OTC Markets Group, Inc. under the ticker symbol “RLXI.”

It appears to the Securities and Exchange Commission that there is a lack of current and accurate information concerning the securities of Riptide Worldwide, Inc. because questions have arisen as to its operating status, if any. Riptide Worldwide, Inc. is quoted on OTC Link operated by OTC Markets Group, Inc. under the ticker symbol “RTWW.”

It appears to the Securities and Exchange Commission that there is a lack of current and accurate information concerning the securities of Rocket City Enterprises, Inc. because questions have arisen as to its operating status, if any. Rocket City Enterprises, Inc. is quoted on OTC Link operated by OTC Markets Group, Inc. under the ticker symbol “RCTY.”

It appears to the Securities and Exchange Commission that there is a lack of current and accurate information concerning the securities of Rocketinfo, Inc. because questions have arisen as to its operating status, if any. Rocketinfo, Inc. is quoted on OTC Link operated by OTC Markets Group, Inc. under the ticker symbol “RKTI.”

It appears to the Securities and Exchange Commission that there is a lack of current and accurate information concerning the securities of Ronco Corp. because questions have arisen as to its operating status, if any. Ronco Corp. is quoted on OTC Link operated by OTC Markets Group, Inc. under the ticker symbol “RNCP.”

It appears to the Securities and Exchange Commission that there is a lack of current and accurate information concerning the securities of Silver Star Energy, Inc. because questions have arisen as to its operating status, if any. Silver Star Energy, Inc. is quoted on OTC Link operated by OTC Markets Group, Inc. under the ticker symbol “SVSE.”

It appears to the Securities and Exchange Commission that there is a lack of current and accurate information concerning the securities of Sound Health Solutions, Inc. because questions have arisen as to its operating status, if any. Sound Health Solutions, Inc. is quoted on OTC Link operated by OTC Markets Group, Inc. under the ticker symbol “SHSO.”

It appears to the Securities and Exchange Commission that there is a lack of current and accurate information concerning the securities of Sovereign Exploration Associates International, Inc. because questions have arisen as to its operating status, if any. Sovereign Exploration Associates International, Inc. is quoted on OTC Link operated by OTC Markets Group, Inc. under the ticker symbol “SVXA.”

It appears to the Securities and Exchange Commission that there is a lack of current and accurate information concerning the securities of Sports Concepts, Inc. because questions have arisen as to its operating status, if any. Sports Concepts, Inc. is quoted on OTC Link operated by OTC Markets Group, Inc. under the ticker symbol “SCPT.”

It appears to the Securities and Exchange Commission that there is a lack of current and accurate information concerning the securities of Sports Media, Inc. because questions have arisen as to its operating status, if any. Sports Media, Inc. is quoted on OTC Link operated by OTC Markets Group, Inc. under the ticker symbol “SPTS.”

It appears to the Securities and Exchange Commission that there is a lack of current and accurate information concerning the securities of TMT Capital Corp. because questions have arisen as to its operating status, if any. TMT Capital Corp. is quoted on OTC Link operated by OTC Markets Group, Inc. under the ticker symbol “TMTP.”

It appears to the Securities and Exchange Commission that there is a lack of current and accurate information concerning the securities of UniMark Group, Inc. (The) because questions have arisen as to its operating status, if any. UniMark Group, Inc. (The) is quoted on OTC Link operated by OTC Markets Group, Inc. under the ticker symbol “UNMG.”

It appears to the Securities and Exchange Commission that there is a lack of current and accurate information concerning the securities of Verdant Brands, Inc. because questions have arisen as to its operating status, if any. Verdant Brands, Inc. is quoted on OTC Link operated by OTC Markets Group, Inc. under the ticker symbol “VERD.”

It appears to the Securities and Exchange Commission that there is a lack of current and accurate information concerning the securities of Viking Power Services, Inc. because questions have arisen as to its operating status, if any. Viking Power Services, Inc. is quoted on OTC Link operated by OTC Markets Group, Inc. under the ticker symbol “VKPW.”

It appears to the Securities and Exchange Commission that there is a lack of current and accurate information concerning the securities of Vinings Investment Properties Trust because questions have arisen as to its operating status, if any. Vinings Investment Properties Trust is quoted on OTC Link operated by OTC Markets Group, Inc. under the ticker symbol “VIPPS.”

It appears to the Securities and Exchange Commission that there is a lack of current and accurate information concerning the securities of Washington Life Insurance Co. of America because questions have arisen as to its operating status, if any. Washington Life Insurance Co. of America is quoted on OTC Link operated by OTC Markets Group, Inc. under the ticker symbol “WLIA.”

It appears to the Securities and Exchange Commission that there is a lack of current and accurate information concerning the securities of Wi-Tron, Inc. because questions have arisen as to its operating status, if any. Wi-Tron, Inc. is quoted on OTC Link operated by OTC Markets Group, Inc. under the ticker symbol “WTRO.”

It appears to the Securities and Exchange Commission that there is a lack of current and accurate information concerning the securities of Zone Mining Ltd. because questions have arisen as to its operating status, if any. Zone Mining Ltd. is quoted on OTC Link operated by OTC Markets Group, Inc. under the ticker symbol “ZMNL.”

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on June 3, 2013, through 11:59 p.m. EDT on June 14, 2013.

By the Commission.
Jill M. Peterson,
Assistant Secretary.

[FR Doc. 2013-13382 Filed 6-3-13; 11:15 am]

BILLING CODE 8011-01-P